DEPARTMENT OF HEALTH AND HUMAN SERVICES

Health Resources and Services Administration

National Advisory Council on Migrant Health; Notice of Meeting

In accordance with section 217 of the Public Health Service Act (42 U.S.C. 218(a)) and section 10(a)(2) of the Federal Advisory Committee Act (Pub. L. 92-463, 5 U.S.C. App.), notice is hereby given of the following meeting:

Name: National Advisory Council on Migrant Health

Dates and Times: May 21, 2013, 8:30 a.m. to 5:00 p.m. May 22, 2013, 8:00 a.m. to 12:00 p.m.

Place: Health Resources and Services Administration, 5600 Fishers Lane, Room 16-49, Rockville, Maryland 20857, Telephone: (301) 443-9820, Fax: (301) 443-9477.

Status: The meeting will be open to the public.

Purpose: The purpose of the meeting is to discuss services and issues related to the health of migrant and seasonal agricultural workers and their families and to formulate recommendations for the Secretary of Health and Human Services on matters concerning the organization, operation, selection, and funding of migrant health centers and other entities under grants and contracts under sections 330(g) and 340 of the Public Health Service Act.

Agenda: The agenda includes an overview of the Council's general business activities. The Council will also hear presentations from experts on agricultural worker issues, including the status of agricultural workers' health at the local and national levels. Agenda items are subject to change as priorities indicate.

For Further Information Contact: Maria-Thelma Peña, Office of National Assistance and Special Populations, Bureau of Primary Health Care, Health Resources and Services Administration, 5600 Fishers Lane, Room 15-74, Rockville, Maryland 20857; telephone (301) 594-4976.

Dated: April 10, 2013.
Bahar Niakan,
Director, Division of Policy and Information Coordination.

[FR Doc. 2013-09025 Filed 4-16-13; 8:45 am]

BILLING CODE 4165-15-P